DEPARTMENT OF LABOR

Agency Information Collection Activities; Submission for OMB Review; Comment Request; Older Workers Implementation and Descriptive Study, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Older Workers Implementation and Descriptive Study. A copy of the proposed Information Collection Request (ICR) can be obtained by contacting the office listed below in the addressee section of this notice.

DATES: Written comments must be submitted to the office listed in the addressee section below on or before April 15, 2022.

ADDRESSES: You may submit comments by either one of the following methods: Email: ChiefEvaluationOffice@dol.gov; Mail or Courier: Kuang-Chi Chang, Chief Evaluation Office, OASP, U.S. Department of Labor, RoomS-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Kuang-Chi Chang by email at ChiefEvaluationOffice@dol.gov or by phone at (202) 693-5592.

SUPPLEMENTARY INFORMATION: I. Background: The US Department of Labor (DOL) Chief Evaluation Office, in collaboration with the Employment Training Administration, has funded the Urban Institute and its partner Capital Research Corporation to conduct the Older Workers Implementation and Descriptive Study (2021-2024). The purpose of this study is to examine the implementation of the Senior Community Service Employment Program (SCSEP) and other DOL workforce programs serving older workers to inform the continuous improvement of SCSEP and develop options for potential future research studies that would address gaps in the evidence base related to employment services for older workers. The overall project is comprised of three phases: (1) Knowledge development activities that identify the evidence base and inform the project about promising approaches for serving and measuring outcomes for older workers or other target populations that share characteristics with this group. Information sources include literature review, grantee documents, program data, clarification calls with grantees, as needed, and grantee “listening sessions” to gain perspectives on topics of interest. (2) A rigorous Implementation Study to identify program typologies and models whose approaches, components, and service delivery could best serve older workers or populations with similar employment barriers, including innovations in implementing paid work components, outreach to the target population, supports for participants, and strategies developed during the COVID-19 pandemic and considering strategies for expanding equity. An Early Implementation component of the study will focus in a subset of grantees' experiences during and post-pandemic. Data sources include a web survey of grantees/subgrantee service providers, site visits to a subset of grantees to interview staff, community service agencies, and employer partners, and interviews with participants. (3) An evaluability assessment to develop options for potential future research and evaluation studies that address gaps in the evidence base related to employment services for older workers. Data sources include information gathered for other phases and additional clarification calls with grantees, as needed.

This Federal Register Notice provides the opportunity to comment on nine proposed data collection instruments that will be used in the study: SCSEP subgrantee survey; SCSEP subgrantee staff interview protocol; SCSEP grantee staff interview protocol; SCSEP host agency interview protocol; SCSEP employer partner interview protocol; SCSEP American Job Center partner interview protocol; SCSEP community organization partner interview protocol; SCSEP participant focus group protocol; and SCSEP participant interview guide.

1. SCSEP subgrantee survey. Includes all subgrantees (including local affiliates of national grantees) of 19 national grantees. The survey does not include the state grantees.

2. SCSEP subgrantee staff interview protocol. Virtual interviews with 5 subgrantee staff in each of 20 local sites of the national grantees.

3. SCSEP host agency interview protocol. Virtual interviews with 2 grantee staff for 15 national grantees overseeing the 20 local sites

4. SCSEP grantee staff interview protocol. Virtual interviews with 2 host agency staff (one leadership and one supervisory) staff person for each of 20 local sites

5. SCSEP employer partner interview protocol. Virtual interviews with 1 staff with employers in each of 20 local sites

6. SCSEP American Job Center partner interview protocol. Virtual interviews with 2 staff at American Job Centers in each of 20 local sites

7. SCSEP community organization partner interview protocol. Virtual interviews with 2 staff at community organization partners in each of 20 local sites

8. SCSEP participant focus group protocol. Includes focus groups with 7 SCSEP participants in each of the 8 local sites

9. SCSEP participant interview guide. Virtual interviews with 3 SCSEP participants in each of the 12 local sites.

II. Desired Focus of Comments: Currently, DOL is soliciting comments concerning the above data collection for the Older Workers Implementation and Descriptive Study. DOL is particularly interested in comments that do the following:

○ Evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, DOL is requesting clearance for the SCSEP subgrantee survey; SCSEP subgrantee staff interview protocol; SCSEP grantee staff interview protocol; SCSEP host agency interview protocol; SCSEP employer partner interview protocol; SCSEP American Job Center partner interview protocol; SCSEP community organization partner interview protocol; SCSEP participants focus group protocol; and SCSEP participant interview guide.

Type of Review: New information collection request.

OMB Control Number: xxx.

Affected Public: Program staff, program partners, and participants of the Senior Community Service Employment Program grants. Additionally, state staff, partners, and representatives of other workforce programs serving older workers.

Comments submitted in response to this request will be summarized and/or included in the request for Office of Management and Budget approval of the information collection request; they will also become a matter of public record.

Estimated Annual Burden Hours ¹
Type of instrument (form/activity) | Number of respondents | Number of responses per respondent | Total number of responses | Average burden time per response (hours) | Estimated burden hours
SCSEP subgrantee survey | ² 164 | 1 | 164 | 4.0 | 656
SCSEP subgrantee staff interview protocol | ³ 33 | 1 | 33 | 2.0 | 66
SCSEP host agency interview protocol | ⁴ 13 | 1 | 13 | 1.5 | 19.5
SCSEP grantee staff interview protocol | ⁵ 10 | 1 | 10 | 1.5 | 15
SCSEP employer partner interview protocol | ⁶ 7 | 1 | 7 | 1.0 | 7
SCSEP American Job Center partner interview protocol | ⁷ 13 | 1 | 13 | 1.0 | 13
SCSEP community organization partner interview protocol | ⁸ 13 | 1 | 13 | 1.0 | 13
SCSEP participant focus group protocol | ⁹ 19 | 1 | 19 | 1.5 | 28.5
SCSEP participant interview guide | ¹⁰ 12 | 1 | 12 | 0.5 | 6
Total | 284 |  | 284 |  | 824
¹ Annualized over three years of project.
² Assumes inclusion of all subgrantees of 19 national grantees and self-administering state and territory grantees.
³ Assumes interviews with 5 subgrantee staff in each of the 20 local sites of the national grantees.
⁴ Assumes interviews with 2 host agency staff (one leadership and one supervisory staff person) for each of the 20 local sites.
⁵ Assumes interviews with 2 grantee staff for 15 national grantees overseeing the 20 local sites.
⁶ Assumes interviews with 1 staff with employers in each of the 20 local sites.
⁷ Assumes interviews with 2 staff at American Job Centers in each of the 20 local sites.
⁸ Assumes interviews with 2 staff at community organization partners in each of the 20 local sites.
⁹ Assumes focus groups with 7 SCSEP participants in 8 local sites.
¹⁰ Assumes interviews with 3 SCSEP participants in 12 local sites.

Christina Yancey,
Chief Evaluation Officer, U.S. Department of Labor.

[FR Doc. 2022-03067 Filed 2-11-22; 8:45 am]

BILLING CODE 4510-HX-P